DEPARTMENT OF TRANSPORTATION

Federal Motor Carrier Safety Administration

[Docket No. FMCSA-2019-0242]

Agency Information Collection Activities; Extension of a Currently-Approved Information Collection Request: Hazardous Materials Safety Permits

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. The FMCSA requests approval to revise and extend an existing ICR titled, “Hazardous Materials Safety Permits.” This ICR requires companies holding safety permits to develop communications plans that allow for the periodic tracking of the shipments. A record of the communications that includes the time of the call and location of the shipment may be kept by either the driver (e.g., recorded in the log book) or the company. These records must be kept, either physically or electronically, for at least six months at the company's principal place of business or readily available to the employees at the company's principal place of business. In response to the 60-day Federal Register Notice published on November 7, 2019, FMCSA received one comment that did not relate to this ICR.

DATES: Please send your comments by May 7, 2020. OMB must receive your comments by this date in order to act on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ms. Suzanne Rach, Office of Enforcement and Compliance, Hazardous Materials Division, Department of Transportation, FMCSA, West Building 6th Floor, 1200 New Jersey Avenue SE, Washington, DC 20590. Telephone: 202-385-2307; email suzanne.rach@dot.gov.

SUPPLEMENTARY INFORMATION: Title: Hazardous Materials Safety Permits.

OMB Control Number: 2126-0030.

Type of Request: Revision and Extension of a currently-approved information collection.

Respondents: Motor carriers subject to the HM Safety Permit requirements in 49 CFR part 385, subpart E.

Estimated Number of Respondents: 987.

Estimated Time per Response: 5 minutes. The communication between motor carriers and their drivers must take place at least two times per day. It is estimated that it will take 5 minutes to maintain a daily communication record for each driver.

Expiration Date: August 31, 2020.

Frequency of Response: On occasion.

Estimated Total Annual Burden: 692,000 hours [8.3 million trips × 5 minutes per record ÷ 60 minutes per hour = 691,667 rounded to 692,000].

Background: The Secretary of Transportation is responsible for implementing regulations to issue safety permits for transporting certain hazardous materials (HM) in accordance with 49 U.S.C. 5101 et seq. The HM Safety Permit regulations (49 CFR part 385, subpart E) require carriers to develop and maintain route plans so that law enforcement officials can verify the correct location of the HM shipment. The FMCSA requires companies holding safety permits to develop a communications plan that allows for the periodic tracking of the shipment. This ICR covers the record of communications that includes the time of the call and location of the shipment. The records may be kept by either the driver (e.g., recorded in the log book) or the company. These records must be kept, either physically or electronically, for at least six months at the company's principal place of business or be readily available to employees at the company's principal place of business. The currently-approved information collection is based on an estimated 1,304 respondents. The total number of companies now holding a safety permit is 987 therefore in this ICR the estimated number of respondents is being revised to reflect this number.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Kenneth H. Riddle,
Acting Associate Administrator, Office of Registration and Research.

[FR Doc. 2020-07222 Filed 4-6-20; 8:45 am]

BILLING CODE 4910-EX-P